DEPARTMENT OF HEALTH AND HUMAN SERVICES

Centers for Medicare & Medicaid Services

[Document Identifier: CMS-2552-10 and CMS-10097]

Agency Information Collection Activities: Proposed Collection; Comment Request

AGENCY: Centers for Medicare & Medicaid Service.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Hospital and Health Care Complexes Cost Report and supporting Regulations in 42 CFR 413.20 and 413.24; Use: Part A institutional providers participating in the Medicare program are required under sections 1815(a) and 1861(v)(1)(A) of the Social Security Act to submit annual information to achieve settlement of costs for health care services rendered to Medicare beneficiaries. 42 CFR 413.20 states that the principles of cost reimbursement require that providers maintain sufficient financial records and statistical data for proper determination of cost payable under the program. The section also requires providers submit cost reports on an annual basis with reporting periods based on the provider's accounting year. The cost report must be based on the provider's financial and statistical records which must be capable of verification by qualified auditors. The cost data must be based on an approved method of cost finding and on the accrual basis of accounting.

Part A institutional providers must provide adequate cost data to receive Medicare reimbursement (42 CFR 413.24). Providers must submit the cost data to their Medicare Fiscal Intermediary (FI)/Medicare Administrative Contractor (MAC) through the Medicare cost report (MCR). CMS requests the Office of Management and Budget review and approve revisions made to the Hospital and Hospital Health Care Complex Cost Report FORM CMS-2552-10 (for cost reporting periods beginning on or after February 1, 2010) which replaces the existing FORM CMS-2552-96. Revisions made to update the forms currently in use are incorporated within this request for approval. Form Number: CMS-2552-10 (OMB#: 0938-0050); Frequency: Reporting—Yearly; Affected Public: Business or other for-profits and not-for-profit institutions; Number of Respondents: 6,168; Total Annual Responses: 6,168; Total Annual Hours: 4,151,064. (For policy questions regarding this collection contact Nadia Massuda at 410-786-5834. For all other issues call 410-786-1326.)

2. Type of Information Collection Request: Revision of a currently approved collection; Title of Information Collection: The Medicare Contractor Provider Satisfaction Survey (MCPSS); Use: Section 911 of the Medicare Prescription Drug, Improvement, and Modernization Act of 2003 (MMA) mandated that CMS develop contract performance requirements and standards for measuring provider satisfaction. CMS developed the MCPSS to meet this requirement. Each year CMS obtains information from Medicare providers and suppliers via a survey about satisfaction, attitudes, and perceptions regarding the services provided by Medicare fee-for-service (FFS) contractors, i.e., carriers, fiscal intermediaries (FIs), regional home health intermediaries (RHHIs), durable medical equipment Medicare administrative contractors (DME MACs) and Part A/Part B MACs. The survey focuses on basic business functions provided by the Medicare contractors, such as provider inquiries, provider outreach and education, claims processing, appeals, provider enrollment, medical review, and provider audit and reimbursement. CMS uses the survey to monitor its contractors and to provide incentives for improved performance.

CMS seeks to minimally revise the survey instrument for the 2010 administration. CMS would like to obtain more focused feedback on the providers' perception of their interactions with their contractor. By narrowing the focus of the questions, CMS can provide more specific feedback to the contractors in targeted areas of performance. Form Number: CMS-10097 (OMB#: 0938-0915); Frequency: Reporting—Yearly; Affected Public: Business or other for-profits and not-for-profit institutions; Number of Respondents: 25,000; Total Annual Responses: 25,000; Total Annual Hours: 9,349. (For policy questions regarding this collection contact Teresa Mundell at 410-786-9176. For all other issues call 410-786-1326.)

To obtain copies of the supporting statement and any related forms for the proposed paperwork collections referenced above, access CMS' Web Site at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by August 31, 2009:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

Dated: June 25, 2009.
Michelle Shortt,
Director, Regulations Development Group, Office of Strategic Operations and Regulatory Affairs.

[FR Doc. E9-15526 Filed 7-1-09; 8:45 am]

BILLING CODE 4120-01-P